DEPARTMENT OF THE TREASURY

Submission for OMB Review; Comment Request

April 27, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before June 8, 2006 to be assured of consideration.

Internal Revenue Service (IRS)

OMB Number: 1545-1978.

Type of Review: Extension.

Title: Credits for Employers Affected by Hurricane Katrina, or Wilma.

Form: IRS 5884-A.

Description: Qualified employers will file Form 5884-A to claim a credit for wages paid to an employee kept on the payroll for the period the business is rendered inoperable as a result of damages inflicted by Hurricane Katrina.

Respondents: Business or other for-profit.

Estimated Total Burden Hours: 992,500 hours.

OMB Number: 1545-0805.

Type of Review: Extension.

Title: Information Return of a 25% Foreign-Owned U.S. Corporation or a Foreign Corporation Engaged in a U.S. Trade or Business.

Description: Form 5472 is used to report information about transactions between a U.S. corporation that is 25% foreign owned or a foreign corporation that is engaged in a U.S. trade or business and related to foreign parties. The IRS uses Form 5472 to determine if inventory or other costs deducted by the U.S. or foreign corporation are correct.

Respondents: Business or other for-profit.

Estimated Total Burden Hours: 2,569,692 hours.

Clearance Officer: Glenn P. Kirkland, (202) 622-3428, Internal Revenue Service, Room 6516 , 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E6-7031 Filed 5-8-06; 8:45 am]

BILLING CODE 4810-01-P